DEPARTMENT OF HEALTH AND HUMAN SERVICES

Indian Health Service

Office of Clinical and Preventive Services, Division of Nursing Services Nursing Program, Schools of Nursing

Announcement Type: Competitive Continuation and New Grants.

Funding Announcement Number: HHS-2008-IHS-NU-0001.

Catalog of Federal Domestic Assistance Numbers(s): 93.970

Key Dates:

Application Deadline Date: August 8, 2008.

Review Date: August 18, 2008.

Award Status Notification: August 22, 2008.

Earliest Anticipated Start Date: September 1, 2008.

I. Funding Opportunity Description

The Indian Health Service (IHS), Office of Clinical and Preventive Services, Division of Nursing Services, announces a competitive grant application for existing and new grantees under the Nursing Education Program for American Indians/Alaska Natives (AI/AN5). This program is authorized under section 112 of the Indian Health Care Improvement Act, Public Law 94-437 as amended. This program is described at 93.970 in the Catalog of Federal Domestic Assistance (CFDA).

The purpose of the Nursing Program Schools of Nursing is to increase the number of nurses, nurse midwives, nurse anesthetists, and nurse practitioners who deliver health care services to AI/ANs. The primary objectives of this grant award are to (1) recruit and train AI/AN individuals to be nurses (Graduate and Undergraduate), (2) provide scholarships to AI/AN individuals enrolled in schools of nursing to pay tuition, books, fees, and stipends for living expenses; (3) provide a program that encourages AI/AN nurses (Graduate and Undergraduate), to provide or continue to provide, health care services in AI/AN health care programs, and (4) provide a program that increases the skills of, and provides continuing education to AI/AN nurses (Graduate and Undergraduate). Each proposal must respond to all of the above four objectives.

The awards will be based on the following:

At least one project to a public or private college or university school of nursing, which provides for a Master of Science in Nursing (MSN), Doctorate in Nursing Practice (DNIP), or Bachelor of Science in Nursing (BSN), degree in nurse midwifery, nurse practitioner, nurse anesthesia, or nursing-healthcare administration, not to exceed $350,000 per year up to a project period of five years.

At least one project to a public, private, college or university program of nursing, which provides for an Associate Degree in Nursing (ADN), not to exceed $335,000 per year up to a project period of five years.

At least one project to a Tribally controlled community college or university that has a formal bridge program agreement to a college or university at which AI/AN students can complete an ADN, BSN, or MSN/DNP degree, not to exceed $300,000 per year up to a project period of five years.

II. Award Information

Type of Awards: Grants.

Estimated Funds Available: The total amount identified for fiscal year (FY) 2008 is $1,335,000. The awards are for 60 months in duration and the average award is approximately $337,000. Each program type will receive different amounts of funding based on the level of nursing degree. Continuation awards are subject to the availability of funds and satisfactory performance.

Anticipated Number of Awards: Four awards will be issued under the announcement to existing or new award recipients on a competitive base.

Project Period: Five Years.

Award Amount: The following will be awarded according to the nursing program level per year:

• $350,000 to one school at the MSN or DNP level,

• $350,000 to at least one school at the BSN level,

• $335,000 to at least one school at the ADN level, and

• $300,000 to a Tribally controlled college/university with a bridge to an ADN/BSN/MSN/DNP level.

III. Eligibility Information

1. The following organizations are eligible:

A. Public or private schools of nursing.

B. Tribally controlled community college nursing programs and Tribally controlled post-secondary vocational institutions (as defined in 20 U.S.C. 2397h(2)).

C. All organizations providing for the ADN, BSN, MSN or DNP to AI/AN students.

While Indian health programs have need for advance practice nurses who are nurse midwives and nurse practitioners, its greatest need in the field of advance practice nursing is nurse anesthesia, in addition to nurse administrators trained at the graduate level and clinical nurses at the bachelor's level. Therefore, preference will be given to applicants who have programs:

A. That provide a preference to Indians,

B. That train nurse anesthetists, nurse midwives, nurse practitioners, and BSN nurses,

C. Whose curriculum is taught in an interdisciplinary manner with other health professional students such as pharmacy, medicine, or behavioral health students,

D. Whose curriculum emphasizes and integrates training on Evidence Based Practice (EBP),

E. Which have student clinical rotations established with Indian health programs,

F. Which offer distance learning opportunity,

G. Which have formal bridge program agreements between Tribal colleges or universities so as to accommodate LPN to ADN/BSN or BSN to MSN/DNP students,

H. Which have a faculty exchange program between a Tribal college or university and a university school of nursing so as to enhance cultural relevance, competency, and faculty strength,

I. Which have an emphasis on transcultural nursing and cultural competency,

J. Which have a rural health focus, and

K. Which are conducted in cooperation with the Center for Gifted and Talented Indian students established under section 5324(a) of the Indian Education Act of 1988. If an eligible organization claims preference in order to be given priority, the organization must submit verifying documentations.

2. Cost Sharing or Matching

The Nursing Program does not require matching funds or cost sharing.

3. Other Requirements

If the application budgets exceed appropriate nursing level of funding as outlined in this announcement, the application will not be considered for review.

The budget should include a narrative and a justification for cost outlined in the applications for the entire project period for each year. The budget and budget justification should be consistent with the tasks identified in the work plan, and should include:

A. Categorical budget (Form SF-424A, Budget Information Non-Construction Programs) completing each of the budget periods requested.

B. Include a narrative justification for all costs, explaining why each line item is necessary or relevant to the proposed project. Include sufficient details to facilitate the determination of cost allow ability.

C. Indicate any special start-up costs.

D. Include a brief program narrative budget justification for the second year and onward.

If indirect costs are claimed, indicate and apply the current negotiated rate to the budget. Include a copy of the rate agreement in the appendix.

All schools must be state approved. All schools must have accreditation by either the National League for Nursing Accrediting Commission (NLNAC) or American Association of Colleges of Nursing Commission on Collegiate Nursing Education (CCNE). The schools offering a degree in nurse midwifery must provide verification of accreditation by the American College of Nurse Midwives. The schools offering a degree in nurse anesthesia must provide verification of accreditation by the Council on Accreditation of Nurse Anesthesia Educational Programs (COA). Tribally controlled community college nursing programs and Tribally controlled post-secondary vocational institutions, if not accredited by the NLNAC or other appropriately recognized accrediting body, must show verifying documentation that they are in the process of seeking accreditation.

IV. Application and Submission Information

1. Applicant package may be found in Grants.gov (http://www.grants.gov). Information regarding the electronic application process may be directed to Michelle G. Bulls or Tammy Bagley, at (301) 443-6290.

The entire application package and detailed application instruction are available and downloadable at the http://www.grants.gov Web site.

2. Content and Form of Application Submission (if prior approval was obtained for paper submission from the Grant Policy Staff (GPS) in writing):

• Be single spaced.

• Be typewritten,

• Have consecutively numbered pages.

• Use black type not smaller than 12 characters per one inch.

• Contain a narrative that does not exceed 10 typed pages that includes the other submission requirements below. The 10 page narrative does not include the work plan, standard forms, Tribal resolutions or letters of support (if necessary), table of contents, budget, budget justifications, narratives, and/or other appendix items.

Public Policy Requirements: All Federal-wide public policies apply to IHS grants with exception of the discrimination public policy.

3. Submission Dates and Times: Applications must be submitted electronically through Grants.gov by 12 midnight Eastern Standard Time (EST) on August 8, 2008. If technical challenges arise and the applicant is unable to successfully complete the electronic application process, the applicant should contact GPS at (301) 443-6290 at least fifteen days prior to the application deadline and advise of the difficulties that your organization is experiencing. The grantee must obtain prior approval, in writing (c-mails are acceptable) allowing the paper submission. If submission of a paper application is requested and approved, the original and two copies may be sent to the Division of Grants Operations, 801 Thompson Avenue, TMP 360, Rockville, MD 20852, (301) 443-5204, by 12 midnight EST on August 8, 2008. Applications shall be considered as meeting the deadline if they are either: (1) Received by 12 midnight EDT on or before August 8, 2008 as hand carried applications; or (2) postmarked on or before the deadline date and received in time to be reviewed along with all other timely applications. A legibly dated receipt from a commercial carrier or the U.S. Postal Service will be accepted in lieu of a postmark. Private metered postmarks will not be accepted as proof of timely mailing. Applications not submitted through Grants.gov, without an approved waiver, may be returned to the applicant without review or consideration. Late applications will not be accepted for processing and it will be returned to the applicant without review.

If more than one application is received from an 11-IS geographical area, only one award will be made to that particular Area providing a DNP, MSN, BSN, or ADN program.

4. Intergovernmental Review: Executive Order 12372 requiring intergovernmental review is not applicable to this program.

5. Funding Restrictions:

• Pre-award costs are allowable pending prior approval from the awarding agency. However, in accordance with 45 CFR Part 74 all pre-award costs are incurred at the recipient's risk. The awarding office is under no obligation to reimburse such costs if for any reason the applicant does not receive an award or if the award to the recipient is less than anticipated.

• The available funds are inclusive of direct and appropriate indirect costs.

• Only one grant will be awarded per program/degree-type.

• IIHS will not acknowledge receipt of applications.

6. Other Submission Requirements:

Electronic Submission—The preferred method for receipt of applications is electronic submission through Grants.gov. However, should any technical challenges arise regarding the submission, please contact Grants.gov Customer Support at 1-800-518-4726 or support@grants.gov. The Contact Center hours of operation are Monday-Friday from 7 a.m. to 9 p.m. EST. The applicant must seek assistance at least fifteen days prior to the application deadline. Applicants that do not adhere to the timelines for Central Contractor Registry (CCR) and/or Grants.gov registration and/or requesting timely assistance with technical issues will not be a candidate for paper applications.

To submit an application electronically, please use the http://www.Grants.gov and select “Apply for Grants” link on the home page. Download a copy of the application package from the Grants.gov Web site, complete it offline and then upload and submit the application via the Grants.gov site. You may not e-mail an electronic copy of a grant application to IHS.

Please be reminded of the following:

• Under the new IHS application submission requirements, paper applications are not the preferred method. However, if you have technical problems submitting your application on-line, please contact directly Grants.gov Customer Support at: http://www.grants.gov/CustomerSupport.

• Upon contacting Grants.gov, obtain a tracking number as proof of contact. The tracking number is helpful if there are technical issues that cannot be resolved and a waiver request from GPS must be obtained.

• If it is determined that a formal waiver is necessary, the applicant must submit a request, in writing (e-mails are acceptable), to Michelle.Bulls@ihs.gov that includes a justification for the need to deviate from the standard electronic submission process. Upon receipt of approval, a hard-copy application package must be downloaded by the applicant from Grants.gov, and sent directly to the Division of Grants Operations (DGO), 801 Thompson Avenue, TMP 360, Rockville, MD 20852 by August 8, 2008.

• Upon entering the Grants.gov site, there is information available that outlines the requirements to the applicant regarding electronic submission of an application through Grants.gov, as well as the hours of operation. We strongly encourage all applicants not to wait until the deadline date to begin the application process through Grants.gov as the registration process for CCR and Grants.gov could take up to fifteen working days.

• To use Grants.gov, you, as the applicant, must have a Data Universal Numbering System (DUNS) number and register in the CCR. You should allow a minimum often days working days to complete CCR registration. See below on how to apply.

• You must submit all documents electronically, including all information typically included on the SF-424 and all necessary assurances and certifications.

• Please use the optional attachment feature in Grants.gov to attach additional documentation that may be requested by IHS.

• Your application must comply with any page limitation requirements described in the program announcement.

• After you electronically submit your application, you will receive an automatic acknowledgment from Grants.gov that contains a Grants.gov tracking number. The IHS DUO will download your application from Grants.gov and provide necessary copies to the cognizant program office. DGO will not notify applicants that the application has been received.

• You may access the electronic application for this program on http://www.Grants.gov.

• You may search for the downloadable application package by either the CFDA number or the Funding Opportunity Number. Both numbers are identified in the heading of this announcement.

• The applicant must provide the Funding Opportunity Number: HHS-2008-IHS-NU-0001.

E-mail applications will not be accepted under this announcement.

DUNS Number

Applicants are required to obtain DUNS number from Dun and Bradstreet to apply for a grant or cooperative agreement from the Federal Government. The DUNS number is a nine-digit identification number, which uniquely identifies business entities. Obtaining a DUNS number is easy and there is no charge. To obtain a DUNS number, access http://www.dnb.com/us/ or call 1-866-705-5711. Interested parties may wish to obtain their DUNS number by phone to expedite the process.

Applications submitted electronically must also be registered with the CCR. A DUNS number is required before CCR registration can be completed. Many organizations may already have a DUNS number. Please use the number listed above to investigate whether or not your organization has a DUNS number. Registration with the CCR is free of charge.

Applicants may register by calling 1-888-227-2423. Please review and complete the CCR Registration Worksheet located on http://www.grants.gov/applicants/register_credential_provider.jsp.

More detailed information regarding these registration processes can be found at http://www.grants.gov.

V. Application Review Information

Applications that meet the eligibility requirements will be reviewed by an Ad Hoc Review Committee composed of Tribal, IHS (outside of the respective program office area), and other Federal or non-Federal reviewers. Applications will be reviewed against established criteria. Reviewers will assign a numerical score to each application which will be used to rank the applications. The final funding decision will be made by the Director of Nursing, IHS, who will consider the geographic location to award only one grant within an IHS Area.

1. Criteria

A. Methodology (40 Points)

Applicants must train nurses at the graduate level in nurse anesthesia, nurse midwifery, nurse practitioners, nursing-Healthcare Administration, or undergraduate level at the BSN or ADN degree level and should provide this training in an interdisciplinary manner. The applicant's curriculum should be available via a distance learning model and emphasize and integrate EBP, transcultural nursing, and include a rural health focus. Applicants must define how they will locate and recruit AI/AN students and provide support services to AI/AN students who are recruited to facilitate their success in the nursing program and to track their progress. Applicants must define how they will assist the graduate nurse with job placement and track their payback status to ensure that the obligees comply with the terms of their service obligation. Applicants should have a mechanism in place to provide their students with clinical rotations in AI/AN health programs; have a bridge program agreement between Tribal colleges or universities so as to accommodate LPN to ADN/BSN or BSN to MSN/DNIP and have a faculty exchange program with a Tribal college or university and a university school of nursing.

B. Capacity (20 Points)

Applicants must provide verification of accreditation and show they are capable of conducting the project from a technical and business standpoint by providing the qualifications and credentials of key personnel and a sound fiscal plan using the grant funds. Applicants for the Graduate or Bachelor's level grants must submit verifying documentation of NLNAC or CCNE accreditation. Applicants for ADN grants must submit verifying documentation of NLNAC accreditation. Applicants with LPN programs must submit verifying documentation of NLNAC accreditation or documentation of being in process of obtaining accreditation. All programs must submit verifying documentation of state approval.

C. Need (15 Points)

Applicants must justify the need for their project and provide a plan for the methodology they will use for recruiting AI/AN students nation-wide as well as how they will actively assist nursing graduates with job placement. Applicants must recruit and train AI/AN individuals to be nurses at the graduate and undergraduate level and provide scholarships to those AI/AN individuals enrolled in the school of nursing to pay tuition, books, fees, and stipends for living expenses; provide a program that encourages AI/AN nurses at the graduate and undergraduate level to provide or continue to provide, health care services in AI/AN health care programs; and provide a program that increases the skills of, and provides continuing education to AI/AN nurses at the graduate and undergraduate level.

D. Evaluation (15 Points)

Applicants must present a plan for evaluating their success in canying out the project and on an annual basis conduct a quantitative and qualitative evaluation of their year's activities, identifying what areas of the project need to be improved and how they will make those improvements. Applicants must identify how they will meet on an annual basis with the other project directors and staff under this grant program to share successes and challenges and to receive Federal grant training.

E. Prior Experience (10 Points)

Applicants should identify their experience with other similar projects, including the results of those projects and provide evidence of their past or potential cooperation and experience with AI/AN communities and Tribes. Applicants must provide evidence that their program is conducted in cooperation with the center for Gifted and Talented Indian Students established under section 5324(a) of the Indian Education Act of 1988.

2. Review and Selection Process

Each application will be reviewed by the DGO for eligibility, compliance with the announcement, and completeness. Applications that meet eligibility requirements, are complete, and conform to this announcement will be subject to a competitive, objective review and evaluation by an Ad Hoc Review Committee composed of Tribal, IHS, and other Federal or non-Federal reviewers. Applications will be reviewed against established criteria. Reviewers will assign a numerical score to each application which will be used to rank applications. In making the final funding decision, the Director of Nursing, IHS, will consider geographic location in order to limit only one grant within an IRS Area.

3. Anticipated Announcement and Award Dates

Announcement of award will occur August 22, 2008 and awards will be made September 1, 2008.

VI. Award Administration Information

1. Award Notices

The Notice of Award (NoA) will be initiated by DGO and will be mailed via postal mail to each entity that is approved for funding under this announcement. The NoA will be signed by the Grants Management Officer and this is the authorizing document for which funds are dispersed to the approved entities. The NoA will serve as the official notification of the grant award and will reflect the amount of Federal funds awarded, the purpose of the grant, the terms and conditions of the award, the effective date of the award, and the budget/project period. The NoA is the legally binding document. Applicants who are approved but unfunded or disapproved based on their Objective Review score will receive a copy of the Executive Summary which identifies the weaknesses and strengths of the application submitted.

2. Administrative Requirements

Grants are administrated in accordance with the following documents:

• This Program Announcement.

• Administrative Requirements: 45 CFR Part 92, “Uniform Administrative Requirements for Grants and Cooperative Agreements to State, Local and Tribal Governments,” or 45 CFR Part 74, Uniform Administrative Requirements for Awards to Institutions of Higher Education, Hospitals, Other Non-Profit Organizations, and Commercial Organizations.

• Grants Policy Guidance: HHS Grants Policy Statement, January 2007.

• Cost Principles: OMB Circular A-87, “State, Local, and Indian” (Title 2 Part 225).

• Cost Principles: OMB Circular A-122, “Non-profit Organizations” (Title 2 Part 230).

• Audit Requirements: OMB Circular A-133, “Audits of States, Local Governments, and Non-profit Organizations.”

3. Indirect Costs

This section applies to all grant recipients that request reimbursement of indirect costs in their grant application. In accordance with HHS Grants Policy Statement, Part 11-27, IIHS requires applicants to have a current indirect cost rate agreement in place prior to award. The rate agreement must be prepared in accordance with the applicable cost principles and guidance as provided by the cognizant agency or office. A current rate means the rate covering the applicable activities and the award budget period. If the current rate is not on file with the DGO at the time of award, the indirect cost portion of the budget will be restricted and not available to the recipient until the current rate is provided to the DGO.

Generally, indirect costs rates for IHS grantees are negotiated with the Division of Cost Allocation http://rates.psc.gov/ and the Department of Interior (National Business Center) http://www.nbc.gov/acquisition/ics/icshome.html. If your organization has questions regarding the indirect cost policy, please contact the DGO at (301) 443-5204.

4. Reporting

A. Progress Report. Program progress reports are required semi-annually for the first two years and annually thereafter if no programmatic issues are identified to ensure progress and compliance. These reports will include a brief comparison of actual accomplishments to the goals established for the period, or, if applicable, provide sound justification for the lack of progress, and other pertinent information as required. A final report must be submitted within 90 days of expiration of the budget/project period.

B. Financial Status Report. Semi-annual financial status reports must be submitted within 30 days of the end of the half year to ensure progress and compliance for the first two years and then financial status reports can be annual if no financial issues are identified. Final financial status reports are due within 90 days of expiration of the budget/project period. Standard Form 269 (long form) will be used for financial reporting.

C. Reports. Grantees are responsible and accountable for accurate reporting of the Progress Reports and Financial Status Reports which are generally due semi-annually. Financial Status Reports (SF-269) is due 90 days after each budget period and the final SF-269 must be verified from the grantee records on how the value was derived. Grantees must submit reports in a reasonable period of time.

Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the grantee organization or the individual responsible for preparation of the reports.

5. Telecommunication for the hearing impaired is available at: TTY (301) 443-6394.

VI. Agency Contact(s)

For program-related information, contact Ms. Sandra L. Haldane, BSN, RN, MS, Director, Division of Nursing Services, Office of Clinical and Preventative Services, Indian Health Service, 801 Thompson Avenue, Reyes Building, Suite 300, Rockville, MD 20852, (301) 443-1840.

For grants-related information, contact Ms. Norma Jean Dunne, Grants Management Specialist, Division of Grants Operations, Indian Health Service, 801 Thompson Avenue, TMP 360, Rockville, MD 20852, (301) 443-5204. (The telephone numbers are not toll-free numbers.)

VIII. Other Information

The Public Health Service (PHS) is committed to achieving the health promotion and disease prevention objectives of Healthy People 2010, a PHS-led activity for setting priority areas. This program announcement is related to the priority area of Educational and Community-based programs. You may obtain the objectives from the latest Healthy People 2010, Review. A copy may be obtained by calling the National Center for Health Statistics, telephone (301) 436-8500.

Smoke Free Workplace

The PHS strongly encourages all grant recipients to provide a smoke-free workplace and promote the non-use of all tobacco products. Public Law 103-227, the Pro-Children Act of 1994, prohibits smoking in certain facilities that receive Federal funds in which education, library, day care, health care, and early childhood development services are provided to children.

Dated: June 20, 2008.
Robert G. McSwain,
Director, Indian Health Service.

[FR Doc. E8-14457 Filed 6-25-08; 8:45 am]

BILLING CODE 4165-16-M